DEPARTMENT OF COMMERCE

International Trade Administration

[A-580-880]

Heavy Walled Rectangular Welded Carbon Steel Pipes and Tubes From the Republic of Korea: Final Results of Antidumping Duty Administrative Review; 2018-2019

AGENCY: Enforcement and Compliance, International Trade Administration, Department of Commerce.

SUMMARY: The Department of Commerce (Commerce) determines that producers and/or exporters subject to this administrative review did not make sales of subject merchandise at less than normal value during the period of review (POR), September 1, 2018, through August 31, 2019.

DATES: Applicable July 1, 2021.

FOR FURTHER INFORMATION CONTACT: Alice Maldonado or Jacob Garten, AD/CVD Operations, Office II, Enforcement and Compliance, International Trade Administration, U.S. Department of Commerce, 1401 Constitution Avenue NW, Washington, DC 20230; telephone: (202) 482-4682 or (202) 482-3342, respectively.

SUPPLEMENTARY INFORMATION:

Background

This review covers three producers and exporters of the subject merchandise. Commerce selected Dong-A Steel Co., Ltd., (DOSCO) and HiSteel Co., Ltd., (HiSteel) for individual examination. The producer and/or exporter not selected for individual examination, Kukje Steel Co., Ltd., (Kukje Steel) is listed in the “Final Results of the Review” section of this notice.

On January 26, 2021, Commerce published the Preliminary Results.¹ In March 2021, the petitioner,² DOSCO, and HiSteel submitted case and rebuttal briefs.³ For a description of the events that occurred since the Preliminary Results, see the Issues and Decision Memorandum.⁴ On May 14, 2021, we extended the deadline for the final results until June 25, 2021.⁵

¹ See Heavy Walled Rectangular Welded Carbon Steel Pipes and Tubes from the Republic of Korea: Preliminary Results of Antidumping Duty Administrative Review; 2018-2019, 86 FR 7071 (January 26, 2021) (Preliminary Results).

² The petitioner is Nucor Tubular Products Inc.

³ See Petitioner's Case Brief, “Heavy Walled Rectangular Welded Carbon Steel Pipes and Tubes from the Republic of Korea: Case Brief,” dated March 19, 2021; DOSCO and HiSteel's Joint Case Brief, “Case Brief of Dong-A-Steel Co., Ltd and HiSteel Co. Ltd.,” dated March 19, 2021; DOSCO's Case Brief, “Case Brief of DOSCO,” dated March 19, 2021; DOSCO's Rebuttal Case Brief, “Heavy Walled Rectangular Carbon Steel Pipe and Tube from Korea—Rebuttal Brief of DOSCO,” dated March 29, 2021; HiSteel's Rebuttal Case Brief, “Administrative Review of the Antidumping Order Heavy Walled Rectangular Carbon Steel Pipe and Tube from Korea—Rebuttal Brief of HiSteel Co. Ltd.,” dated March 29, 2021; Petitioner's Rebuttal Case Brief, “Heavy Walled Rectangular Welded Carbon Steel Pipes and Tubes from the Republic of Korea: Rebuttal Brief,” dated March 29, 2021. We also received a letter in lieu of a rebuttal brief from Kukje Steel. See Kukje Steel's Letter, “Heavy Walled Rectangular Welded Carbon Steel Pipes and Tubes from the Republic of Korea—Letter in Support of Mandatory Respondents' Briefs,” dated March 29, 2021.

⁴ See Memorandum, “Issues and Decision Memorandum for the Final Results of the 2018-2019 Administrative Review of the Antidumping Duty Order on Heavy Walled Rectangular Welded Carbon Steel Pipes and Tubes from the Republic of Korea,” dated concurrently with, and hereby adopted by, these results (Issues and Decision Memorandum).

⁵ See Memorandum, “Heavy Walled Rectangular Welded Carbon Steel Pipes and Tubes from the Republic of Korea: Extension of Deadline for Final Results of the 2018-2019 Antidumping Duty Administrative Review,” dated May 14, 2021.

Commerce conducted this administrative review in accordance with section 751 of the Tariff Act of 1930, as amended (the Act).

Scope of the Order

The products covered by the order are certain heavy walled rectangular welded steel pipes and tubes from the Republic of Korea (Korea). Products subject to the order are currently classified under the Harmonized Tariff Schedule of the United States (HTSUS) item number 7306.61.1000. Subject merchandise may also be classified under 7306.61.3000. Although the HTSUS numbers and ASTM specification are provided for convenience and for customs purposes, the written product description remains dispositive.⁶

⁶ For a full description of the scope of the order, see Issues and Decision Memorandum.

Analysis of Comments Received

All issues raised in the case and rebuttal briefs are listed in the Appendix to this notice and addressed in the Issues and Decision Memorandum. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at http://enforcement.trade.gov/frn/index.html.

Verification

Commerce was unable to conduct on-site verification of the information relied upon for the final results of this review. However, we took additional steps in lieu of an on-site verification to verify this information, in accordance with section 782(i) of the Tariff Act of 1930, as amended (the Act).⁷

⁷ See Commerce's Letters, In Lieu of Verification Questionnaires for HiSteel and DOSCO, dated February 16, 2021 and March 4, 2021, respectively; see also HiSteel's Letter, “Administrative Review of the Antidumping Duty Order on Heavy Walled Rectangular Carbon Steel Pipes and Tubes from Korea—Response to the Department's February 16 In-Lieu of Verification Questionnaire,” dated February 25, 2021; and DOSCO's Letter, “Heavy Walled Rectangular Carbon Steel Pipes and Tubes from Korea—Response to the Department's March 4 Questionnaire In-Lieu of Verification,” dated March 11, 2021.

Changes Since the Preliminary Results

Based on a review of the record and comments received from interested parties regarding our Preliminary Results, we made certain changes to the preliminary weighted-average margin calculations for DOSCO and HiSteel. For a discussion of these changes, see the Margin Calculations section of the Issues and Decision Memorandum.⁸

⁸ See Issues and Decision Memorandum.

Rate for Non-Selected Respondents

The Act and Commerce's regulations do not address the rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted-average of the estimated weighted-average dumping margins established for exporters and producers individually investigated, excluding any zero or de minimis margins, and any margins determined entirely {on the basis of facts available}.” Section 735(c)(5)(B) of the Act also provides that, where all rates are zero, de minimis, or based entirely on facts available, we may use “any reasonable method” for assigning the rate to all other respondents. The SAA states that the “expected method” under “any reasonable method” is that we will weight-average the rates that are zero, de minimis, and based entirely on facts available.⁹

⁹ See Uruguay Round Agreements Act Statement of Administrative Action attached to H.R. Rep. No. 103-316 vol. I at 873 (1994), reprinted in 1994 U.S.C.C.A.N 3773, 4163 (SAA).

In this review, we have calculated weighted-average dumping margins for DOSCO and HiSteel that are zero percent, and we have assigned this zero percent to the non-selected company in this review (i.e., Kukje Steel), pursuant to section 735(c)(5)(B) of the Act.

Final Results of the Review

We continue to assign the following weighted-average dumping margins to the firms listed below for the period September 1, 2018, through August 31, 2019:

¹⁰ As discussed in the Preliminary Results, Commerce preliminarily determined to collapse Dong-A Steel Co., Ltd., with its affiliated producer SeAH Steel Corporation and treat these companies as a single entity, in accordance with 19 CFR 351.401(f). We received no comments on this issue and continue to determine that Dong-A Steel Co., Ltd. and SeAH Steel Corporation are a single entity.

Producers/exporters | Weighted- average dumping margin (percent)
Dong-A Steel Co., Ltd ¹⁰ | 0.00
HiSteel Co., Ltd | 0.00
Kukje Steel Co., Ltd | 0.00

We intend to disclose the calculations performed within five days of the date of publication of this notice to parties in this proceeding, in accordance with 19 CFR 351.224(b).

Assessment Rates

Pursuant to section 751(a)(2)(C) of the Act and 19 CFR 351.212(b)(1), Commerce has determined, and U.S. Customs and Border Protection (CBP) shall assess, antidumping duties on all appropriate entries of subject merchandise in accordance with the final results of this review. Pursuant to 19 CFR 351.212(b)(1), where the respondent did not report entered value, we calculated the entered value in order to calculate the assessment rate. Where the respondent's weighted-average dumping margin is zero or de minimis within the meaning of 19 CFR 351.106(c)(1), or an importer-specific rate is zero or de minimis, we will instruct CBP to liquidate the appropriate entries without regard to antidumping duties. In accordance with Commerce's practice, for entries of subject merchandise during the POR for which the reviewed companies did not know that the merchandise was destined for the United States, we will instruct CBP to liquidate such entries at the all-others rate if there is no company-specific rate for the intermediate company(ies) involved in the transaction.¹¹

¹¹ See Antidumping and Countervailing Duty Proceedings: Assessment of Antidumping Duties, 68 FR 23954 (May 6, 2003).

The final results of this review shall be the basis for the assessment of antidumping duties on entries of merchandise covered by the final results of this review and for future deposits of estimated duties, where applicable.¹² Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

¹² See section 751(a)(2)(C) of the Act.

Cash Deposit Requirements

The following cash deposit requirements will be effective for all shipments of the subject merchandise entered, or withdrawn from warehouse, for consumption on or after the publication date of the final results of this administrative review, as provided by section 751(a)(2)(C) of the Act: (1) The cash deposit rate for each specific company listed above will be that established in the final results of this review, except if the rate is less than 0.50 percent and, therefore, de minimis within the meaning of 19 CFR 351.106(c)(1), in which case the cash deposit rate will be zero; (2) for previously investigated companies not participating in this review, the cash deposit will continue to be the company-specific rate published for the most recently completed segment of this proceeding; (3) if the exporter is not a firm covered in this review, or the original less-than-fair-value (LTFV) investigation, but the manufacturer is, then the cash deposit rate will be the rate established for the most recent segment for the manufacturer of the merchandise; and (4) the cash deposit rate for all other manufacturers or exporters will continue to be 3.24 percent, the all-others rate established in the LTFV investigation.¹³ These deposit requirements, when imposed, shall remain in effect until further notice.

¹³ See Heavy Walled Rectangular Welded Carbon Steel Pipes and Tubes from the Republic of Korea, Mexico, and the Republic of Turkey: Antidumping Duty Orders, 81 FR 62865, 62866 (September 13, 2016).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

We are issuing and publishing this notice in accordance with sections 751(a)(1) and 777(i) of the Act.

Dated: June 25, 2021.
James Maeder,
Deputy Assistant Secretary for Antidumping and Countervailing Duty Operations.

Appendix

List of Topics Discussed in the Issues and Decision Memorandum

I. Summary

II. Background

III. Scope of the Order

IV. Margin Calculations

V. Discussion of Issues

General Issues

Comment 1: Existence of a Particular Market Situation (PMS)

Comment 2: PMS Adjustment

Comment 3: Differential Pricing

DOSCO-Specific Issues

Comment 4: DOSCO's Scrap Offset

Comment 5: SeAH Steel Corporation (SeAH Steel)'s Scrap Offset

Comment 6: Common Expenses—DOSCO's General and Administrative (G&A) Expense Ratio

Comment 7: Affiliated Services—DOSCO's and SeAH Steel's G&A Expense Ratios

Comment 8: Inventory Valuation Losses—DOSCO's G&A Expense Ratio

Comment 9: Unassigned Material Costs Variance—SeAH Steel's G&A Expense Ratio

Comment 10: Packing Costs—DOSCO's G&A Expense Ratio

Comment 11: Collapsed G&A Expense Ratio

Comment 12: Short Term Interest Income—Financial Expense Ratio

Comment 13: Investment Related Gains and Losses—Financial Expense Ratio

Comment 14: Packing Costs—Financial Expense Ratio

HiSteel-Specific Issues

Comment 15: HiSteel Transactions—Disregarded Rule

Comment 16: Allocation of Common Expenses for HiSteel

Comment 17: HiSteel's Miscellaneous Income Items

VI. Recommendation

[FR Doc. 2021-14109 Filed 6-30-21; 8:45 am]

BILLING CODE 3510-DS-P